ENVIRONMENTAL PROTECTION AGENCY

[EPA-R09-OAR-2006-0137; FRL-8044-8]

Adequacy Status of the Truckee Meadows (Washoe County, NV) Submitted Carbon Monoxide Maintenance Plan for Transportation Conformity Purposes

AGENCY: Environmental Protection Agency (EPA).

ACTION: Notice of adequacy determination.

SUMMARY: In this notice, EPA is notifying the public that we have found that the motor vehicle emissions budgets contained in the submitted Redesignation Request and Maintenance Plan for the Truckee Meadows (Washoe County, Nevada) Carbon Monoxide Nonattainment Area (September 2005) (“Truckee Meadows Carbon Monoxide Redesignation Request and Maintenance Plan”) are adequate for transportation conformity purposes. As a result of our finding, the Washoe County Regional Transportation Commission and the U.S. Department of Transportation must use the carbon monoxide motor vehicle emissions budgets from the submitted plan for future conformity determinations.

DATES: This determination is effective March 30, 2006.

FOR FURTHER INFORMATION CONTACT: The finding is available at EPA's conformity Web site: http://www.epa.gov/oms/traq, (once there, click on the “Transportation and Air Quality Planning” link and click on the “Transportation Conformity” link, then look for “Adequacy Review of SIP Submissions for Conformity”). You may also contact Eleanor Kaplan, U.S. EPA, Region IX, Air Division AIR-2, 75 Hawthorne Street, San Francisco, CA 94105; (415) 947-4147, or kaplan.eleanor@epa.gov.

SUPPLEMENTARY INFORMATION: Throughout this document, whenever “we”, “us”, or “our” is used, we mean EPA.

This notice announces our finding that the emissions budgets contained in the Carbon Monoxide State Implementation Plan revision for Truckee Meadows (Washoe County, Nevada) (“Truckee Meadows Carbon Monoxide Redesignation Request and Maintenance Plan”) submitted by the State of Nevada on November 4, 2005, are adequate for transportation conformity purposes. EPA Region IX made this finding in a letter to the Nevada Division of Environmental Protection on February 13, 2006. We are also announcing this finding on our conformity Web site: http://www.epa.gov/oms/traq, (once there, click on the “Transportation and Air Quality Planning” link and click on the “Transportation Conformity” link, then look for “Adequacy Review of SIP Submissions for Conformity”).

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emissions budgets are adequate for conformity purposes are outlined in 40 CFR 93.118(e)(4). One of these criteria is that the motor vehicle emissions budgets, when considered together with all other emission sources, are consistent with applicable requirements for reasonable further progress, attainment, or maintenance (whichever is relevant to the given implementation plan submission). We have preliminarily determined that the Truckee Meadows Carbon Monoxide Redesignation Request and Maintenance Plan does provide for maintenance of the CO standard. Therefore, the motor vehicle emissions budgets can be found adequate. Please note that an adequacy review is separate from EPA's completeness review, and it also should not be used to prejudge EPA's ultimate action on the submitted plan itself. Even if we find a budget adequate, the submitted plan could later be disapproved.

We have described our process for determining the adequacy of submitted SIP budgets in guidance (May 14, 1999 memo titled “Conformity Guidance on Implementation of March 2, 1999 Conformity Court Decision”). This guidance is now reflected in the amended transportation conformity rule, July 1, 2004 (69 FR 40004), and in the correction notice, July 20, 2004 (69 FR 43325). We followed this process in making our adequacy determination on the emissions budgets contained in the Truckee Meadows Carbon Monoxide Redesignation Request and Maintenance Plan.

Authority: 42 U.S.C. 7401-7671q.

Dated: February 21, 2006.
Jane Diamond,
Acting Regional Administrator, Region IX.

[FR Doc. E6-3729 Filed 3-14-06; 8:45 am]

BILLING CODE 6560-50-P